NUCLEAR REGULATORY COMMISSION

Criteria for Preparation and Evaluation of Radiological Emergency Response Plans and Preparedness in Support of Nuclear Power Plants; Addenda to NUREG-0654/FEMA-REP-1, Revision 1

AGENCIES: Nuclear Regulatory Commission, Federal Emergency Management Agency.

ACTION: Notice of availability.

SUMMARY: The Nuclear Regulatory Commission (NRC) and the Federal Emergency Management Agency (FEMA) have issued an Addenda to NUREG-0654/FEMA-REP-1, Rev. 1, “Criteria for Preparation and Evaluation of Radiological Emergency Response Plans and Preparedness in Support of Nuclear Power Plants.” This NUREG is the basic emergency planning guidance document for radiological emergency planning and preparedness for commercial nuclear power plants and is used by licensees and by State and local government emergency response agencies to develop and maintain radiological emergency plans for nuclear power plants.

EFFECTIVE DATE: March, 2002.

The Addenda to NUREG-0654/FEMA-REP-1, Rev. 1, also is available electronically by visiting NRC's home page (http://www.nrc.gov/reading-rm/doc-collections/nuregs/staff/) or FEMA's home page (http://www.fema.gov/pte/rep/).

A copy of the Addenda to NUREG-0654/FEMA-REP-1, Rev. 1, is available for a fee in the NRC Public Document Room, 11555 Rockville Pike, Rockville, Maryland, Room O1F21.

FOR FURTHER INFORMATION CONTACT: Kathy Halvey Gibson, Chief, Emergency Preparedness and Health Physics Section, Office of Nuclear Reactor Regulation, U.S. Nuclear Regulatory Commission, Washington, DC 20555-0001, Telephone (301) 415-1086; electronic mail address: khg@nrc.gov or Vanessa E. Quinn, Chief, Radiological Emergency Preparedness Branch, Technological Services Division, Office of National Preparedness, Federal Emergency Management Agency, Washington, DC 20472, telephone (202) 646-3664; electronic mail address: vanessa.quinn@fema.gov.

SUPPLEMENTARY INFORMATION: This notice announces the availability of the Addenda to NUREG-0654/FEMA-REP-1, Rev. 1, “Criteria for Preparation and Evaluation of Radiological Emergency Response Plans and Preparedness in Support of Nuclear Power Plants.” NUREG-0654/FEMA-REP-1, Rev. 1, was issued in November 1980 and is the basic emergency planning guidance document for radiological emergency planning and preparedness for commercial nuclear power plants. NUREG-0654/FEMA-REP-1, Rev. 1, is used by licensees and by State and local government emergency response agencies to develop and maintain radiological emergency plans for nuclear power plants. NUREG-0654/FEMA-REP-1, Rev. 1, is also used by staff of the NRC and FEMA to review, respectively, licensee and State and local government radiological emergency plans and preparedness, and to make findings and determinations regarding the adequacy of these plans. As part of FEMA's strategic review of its radiological emergency preparedness program, FEMA and NRC staff determined that it was not necessary to revise NUREG-0654/FEMA-REP-1, Rev. 1, but that to enhance its usefulness, the outdated citations in the document should be replaced with updated citations through means of an addenda. An initial version of the addenda was posted on the FEMA web site and provided to the member agencies of the Federal Radiological Preparedness Coordinating Committee for comment.

Additionally, a draft version of the addenda was provided to all stakeholders for comment on March 26, 2001. Comments received were incorporated as appropriate in the final addenda.

Dated at Rockville, Maryland, this 4th day of April, 2002.
For the Nuclear Regulatory Commission.
Glenn M. Tracy,
Chief, Reactor Safeguards, Radiation Safety and Emergency Preparedness Branch, Office of Nuclear Reactor Regulation, Nuclear Regulatory Commission.
For the Federal Emergency Management Agency on April 17, 2002.
Bruce Baughman,
Director, Office of National Preparedness, Federal Emergency Management Agency.

[FR Doc. 02-11373 Filed 5-7-02; 8:45 am]

BILLING CODE 7590-01-P